LEGAL SERVICES CORPORATION

Sunshine Act Meeting of the Board of Directors Finance Committee Amended Notice

Changes to the Meeting Date and Time: The Legal Services Corporation (LSC) is announcing an amendment to the notice of the joint meeting of the Board of Directors' Audit and Operations & Regulations Committees (Joint Committees). The meeting, originally noticed to be convened at 1 p.m., on June 9, 2010, will be announced in the Federal Register dated June 7, 2010, Volume 75. The amendment is being made to reflect changes to the meeting date and time. There are no other changes.

Amended Date and Time: The Joint Committees will meet June 15, 2010 commencing at 10:30 a.m., Eastern Time.

Location: Legal Services Corporation, 3333 K Street, NW., 3rd Floor Conference Center, Washington, DC 20007.

Call-In Directions For Open Session(S):

• Call toll-free number: 1- (866) 451-4981;

• When prompted, enter the following numeric pass code: 5907707348;

• When connected to the call, please “MUTE” your telephone immediately.

Status Of Meeting: Open.

MATTERS TO BE CONSIDERED:

Open Session

1. Approval of agenda

2. Approval of draft minutes of April 17, 2010 joint meeting of the committees

3. Consider and act on revisions to the LSC Accounting Guide for LSC Recipients

• Presentation by Danilo Cardona, Director, Office of Compliance & Enforcement

• Public Comment

4. Public comment

5. Consider and act on other business

6. Consider and act on adjournment of meeting

CONTACT PERSON FOR INFORMATION: Katherine Ward, Executive Assistant to the Vice President for Legal Affairs, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward at (202) 295-1500 or FR_NOTICE_QUESTIONS@lsc.gov.

Dated: June 4, 2010.
Patricia D. Batie,
Corporate Secretary.

[FR Doc. 2010-13899 Filed 6-7-10; 11:15 am]

BILLING CODE 7050-01-P